DEPARTMENT OF AGRICULTURE

Forest Service

Frenchtown Face Ecosystem Restoration Project; Ninemile Range District, Lolo National Forest, Missoula County, MT

AGENCY: Forest Service, USDA.

ACTION: Notice; intent to prepare an environmental impact statement.

SUMMARY: The Forest Service will prepare an environmental impact statement (EIS) to disclose the effects of timber harvest, prescribed burning, road management changes, weed spraying, and stream channel restoration in a 44,000 acre project area approximately 25 miles northwest of Missoula, Montana.

DATES: Comments concerning the scope of the analysis should be received in writing no later than 30 days following publication of this notice.

ADDRESSES: Send written comments to: Deborah L. R. Austin, Forest Supervisor, Lolo National Forest, Building 24, Fort Missoula, Missoula, MT 59804.

FOR FURTHER INFORMATION CONTACT: Brian Riggers, EIS Team Leader, Building 24, Fort Missoula, Montana 59804, (406) 329-3793, or e-mail briggers@fs.fed.us.

SUPPLEMENTARY INFORMATION: The Lolo National Forest proposes to harvest trees on approximately 4,300 acres of low elevation benchlands within the project area. Most of these acres would be underburned following harvest, and an additional 6,500 acres of prescribed burning to reduce fuel levels would occur in areas not harvested (a total of about 10,400 acres of burning overall). Approximately 79 miles of road management changes are proposed. Most (48 miles) of these involve removing drainage structures and restoring vegetation on previously closed roads, but approximately 31 additional mile of low use or grown in roads would also be formally closed. Finally, weeds would be treated within about 6,000 acres where they currently occur. Approximately 1,200 acres would be aerially sprayed.

Lands affected are within the Mill, Roman, Houle, Sixmile, and lower Ninemile Creek (including Butler, Kennedy, and McCormick Creeks) watersheds. The project area is bounded by the Clark Fork River and Ninemile Creek to the southwest, and the Ninemile/Flathead Reservation divide to the northeast.

The purpose of the proposal is to carry out the goals and direction stated in the Lolo National Forest Plan using ecosystem management principles. The objectives are to:

(1) Reduce the potential for high severity fires within the low elevation ponderosa pine and Douglas-fir forests, while also improving fire protection on private property with all ownerships.

(2) Maintain/improve forest health and reduce the risk of damage from insects and disease while maintaining a natural appearing landscape.

(3) Reduce the expansion of new or less extensive weed species, and control exsisting weeds, under a comprehensive block planning effort.

(4) Reduce roads while maintaining reasonable access for recreation, but limiting further recreational development.

(5) Maintain/improve water quality and fish habitat throughout the landscape.

(6) Maintain/improve wildlife security and habitat.

(7) Protect and interpret historic sites.

Public involvement was conducted in 2002 through public meetings, letters, and phone conversations. Values and desires that people have for the management of this landscape were identified. these were used to collaboratively develop purpose and need statements, which this proposed action is based upon. Issues and comments identified during this earlier scoping that were not specific components of the proposed action will be carried forward and addressed through alternative development. During this process the Forest Service is seeking written comment, particularly addressing possible issues or alternatives. A scoping document has been prepared and mailed to parties known to be interested in the proposed action.

The effects of the proposed action on vegetation, fire, wildlife, fisheries, recreation, historic interpretation, and the scenic character of the landscape have been identified as preliminary key issues. These issues will be used to develop a range of alternatives (including a no action alternative where none of the activities in the proposed action would be implemented) and assess environmental consequences.

Public participation is an important part of the development and analysis of this project. In addition to the initial collaboration, the public may visit Forest Service officials at any time during the analysis and prior to the decision. The Forest Service will be seeking information, comments, and assistance from Federal, State, and local agencies and other individuals or organizations that may be interested in, or affected by, the proposed action. There will be additional public meetings throughout this process. If you are interested in obtaining dates or information on these, please contact Brian Riggers at the location listed above.

The Federal Forest Service is the lead agency for preparing this EIS. They will consult with the United States Fish and Wildlife Service. The responsible official who will make the decision is Deborah L. R. Austin, Forest Supervisor. She will make a decision between alternatives after considering comments, responses, environmental consequences, applicable laws, regulations, and policies. The decision and rational will be documented in a Record of Decision.

The draft EIS is expected to be filed with the Environmental Protection Agency (EPA) and available for public review in April 2003. At that time, the EPA will publish a Notice of Availability of the Draft EIS in the Federal Register. The comment period on the Draft EIS will be 45 days from the date of the EPA's notice of availability. It is very important that those interested in management of the Frenchtown Face project area participate at that time. Completion of the final EIS is scheduled for July 2003.

The Forest Service believes it is important at this early stage to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the DEIS stage but that are not raised until after completion of the FEIS (Final Environmental Impact Statement) may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the FEIS.

To assist the Forest Service in identifying and considering issues and concerns on the proposed action, comments on the DEIS should be as specific as possible. Reviewers may wish to refer to the Council on Environmental Quality Regulations for implementing the procedural provisions of the National Environmental Policy Act at 40 CFR 1503.3 in addressing these points.

Dated: November 15, 2002.
Deborah L.R. Austin,
Forest Supervisor, Lolo National Forest.

[FR Doc. 02-30879 Filed 12-5-02; 8:45 am]

BILLING CODE 32110-11-M